DEPARTMENT OF HEALTH AND HUMAN SERVICES

Centers for Disease Control and Prevention

[60Day-11-11DT]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Monitoring Outcomes of the Enhanced Comprehensive HIV Prevention Planning (ECHPP) Project-New-National Center for HIV/AIDS, Viral Hepatitis, STD, and TB Prevention (NCHHSTP), Centers for Disease Control and Prevention (CDC).

Background and Brief Description

The scope of the HIV epidemic in the United States is significant, particularly in large urban areas where HIV/AIDS cases are concentrated. In 2006, approximately 56,000 new HIV infections occurred in the U.S., demonstrating the need to expand targeted HIV prevention efforts. In 2010, twelve U.S. metropolitan statistical areas (MSAs) received funding, through their city and state health departments, to conduct the Enhanced Comprehensive HIV Prevention Planning (ECHPP) project. These twelve MSAs (Atlanta, GA; Baltimore, MD; Chicago, IL; Dallas, TX; District of Columbia; Houston, TX; Los Angeles, CA; Miami, FL; New York City, NY; Philadelphia, PA; San Francisco, CA; and San Juan, PR) had the highest AIDS prevalence rates in the U.S. at the end of 2007, representing 44% of all U.S. AIDS cases. The purpose of ECHPP is to enhance existing HIV prevention services in these high prevalence areas and provide an optimal mix of evidence-based behavioral, biomedical, and structural interventions to have maximum impact on the HIV/AIDS epidemic at the community level. ECHPP goals are consistent with CDC's Division of HIV/AIDS Prevention Strategic Plan for HIV Prevention and with the National HIV/AIDS Strategy: (1) Prevent new HIV infections, (2) increase linkage to, and impact of, prevention and care services for HIV-positive individuals, and (3) reduce HIV-related health disparities.

To evaluate ECHPP, data will be collected through both existing CDC data sources and through new data collection activities. Existing CDC data sources will include HIV surveillance systems (e.g., National HIV Behavioral Surveillance System, Medical Monitoring Project) that routinely collect information about behavioral and clinical outcomes from at-risk target populations in the 12 MSAs. A new data collection activity is proposed through this project to collect information about behavioral and clinical outcomes from injection drug users, high-risk heterosexuals, and HIV-positive individuals who access medical care in six of the 12 ECHPP-funded MSAs. These MSAs are: District of Columbia; Houston, TX; Los Angeles, CA; Miami, FL; New York City, NY; and San Francisco, CA. The purpose of this new data collection activity is to monitor community-level outcomes of ECHPP and supplement HIV surveillance data routinely collected in these areas. Outcome data will be collected in these MSAs at two time points from 2011 to 2014.

Two surveys will be used in this project: (1) A community-based survey to be administered to injection drug users and high-risk heterosexuals, and (2) a clinic-based survey to be administered to HIV-positive individuals seeking care at clinics that provide HIV-related services. Both surveys will collect data on demographics, sexual behavior, alcohol and drug use history, HIV testing experiences, exposure to HIV prevention messages, and participation in HIV prevention activities. The clinic survey will also include questions about HIV treatment, treatment adherence, sources of care, and medical outcomes. For the community survey, we intend to recruit and screen 1500 injection drug users and 1500 high-risk heterosexuals using venue-based, convenience sampling methods. For the clinic survey, we intend to recruit and screen 2400 HIV-positive individuals seeking HIV care at medical clinics. A total of 1200 eligible injection drug users (age ≥ 18 yrs), 1200 eligible high-risk heterosexuals (age 18 to 60 yrs), and 2400 eligible HIV-positive individuals (age ≥ 18 yrs) will be surveyed. CDC will collaborate with local health department staff and outreach workers in each MSA to identify venues and clinics appropriate for data collection. Surveys will be administered by trained, local interviewers. There is no cost to respondents other than their time.

Estimate of Annualized Burden Table
Target population | Data collection form | Number of respondents | Number of responses per respondent | Average burden per response (in hours) | Total burden (in hours)
Injection drug users | Community Screener | 500 | 1 | 5/60 | 42
Eligible injection drug users | Community Survey | 400 | 1 | 25/60 | 167
High-risk heterosexual individuals | Community Screener | 500 | 1 | 5/60 | 42
Eligible high-risk heterosexual individuals | Community Survey | 400 | 1 | 25/60 | 167
HIV-positive individuals | Clinic Screener | 933 | 1 | 5/60 | 78
Eligible HIV-positive individuals | Clinic Survey | 800 | 1 | 25/60 | 333
Total |  |  |  |  | 829

Daniel Holcomb,
Reports Clearance Officer, Centers for Disease Control and Prevention.

[FR Doc. 2011-7886 Filed 4-1-11; 8:45 am]

BILLING CODE 4163-18-P